DEPARTMENT OF DEFENSE

Office of the Secretary

Meeting of the Uniform Formulary Beneficiary Advisory Panel

AGENCY: Department of Defense, Assistant Secretary of Defense (Health Affairs).

ACTION: Notice; meeting of the Uniform Formulary Beneficiary Advisory Panel.

SUMMARY: This notice announces a meeting of the Uniform Formulary Beneficiary Advisory Panel. The panel will review and comment on recommendations made to the Director, TRICARE Management Activity, by the Pharmacy and Therapeutics Committee regarding the Uniform Formulary. The meeting will be open to the public. Seating is limited and will be provided only to the first 220 people signing in. All persons must sign in legibly. Notice of this meeting is required under the Federal Advisory Committee Act.

DATES: Monday, June 27, 2005, from 8 a.m. to 4 p.m.

ADDRESSES: Naval Heritage Center Theater, 701 Pennsylvania Avenue NW., Washington, DC 20004.

FOR FURTHER INFORMATION CONTACT: Rich Martel, TRICARE Management Activity, Pharmacy Operations, Beneficiary Advisory Panel, Suite 810, 5111 Leesburg Pike, Falls Church, VA 22041, telephone 703-681-0064 ext. 3672, fax 703-681-1242, or e-mail at richard.martel@tma.osd.mil.

SUPPLEMENTARY INFORMATION: The Uniform Formulary Beneficiary Advisory Panel will only review and comment on the development of the uniform formulary as reflected in the recommendations of the Pharmacy and Therapeutics Committee coming out of that body's meeting in May 2005. The DoD P&T information and subject matter concerning drug classes reviewed for that meeting are available at http://www.pec.ha.osd.mil. The website for the Beneficiary Advisory Panel is at http://www.tricare.osd.mil/pharmacy/bap. Any private citizen is permitted to file a written statement with the advisory panel. Statements must be submitted electronically to The Uniform Formulary Beneficiary Advisory Panel, c/o Mr. Richard Martel, richard.martel@tma.osd.mil. In order to be considered by the panel prior to the meeting, statements must be submitted electronically no later than June 21, 2005. Any private citizen is permitted to speak at the Beneficiary Advisory Panel meeting, time permitting. One hour has been reserved for public comments, and speaking times will be assigned on a first-come, first-served basis. The amount of time allocated to a speaker will not exceed five minutes. Private citizens wishing to speak at the meeting may sign up at the meeting on a first-come, first-served basis.

Dated: May 20, 2005.
Jeannette Owings-Ballard,
OSD Federal Register Liaison Officer, Department of Defense.

[FR Doc. 05-10490 Filed 5-25-05; 8:45 am]

BILLING CODE 5001-06-P